DEPARTMENT OF VETERANS AFFAIRS

[OMB Control No. 2900-0055]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before June 17, 2002.

FOR FURTHER INFORMATION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0055.” Send comments and recommendations concerning any aspect of the information collection to VA's OMB Desk Officer, OMB Human Resources and Housing Branch, New Executive Office Building, Room 10235, Washington, DC 20503 (202) 395-7316. Please refer to “OMB Control No. 2900-0055” in any correspondence.

SUPPLEMENTARY INFORMATION: Title: Request for Determination of Loan Guaranty Eligibility—Unmarried Surviving Spouses, VA Form 26-1817.

OMB Control Number: 2900-0055.

Type of Review: Extension of a currently approved collection.

Abstract: Title 38, U.S.C. 3701(b)(2) authorizes VA to extend home loan benefits to unmarried surviving spouses of veterans whose deaths (1) occurred either while serving on active duty or (2) were a direct result of service-connected disabilities. The unmarried surviving spouse of a veteran completes VA Form 26-1817 as a formal request for a certificate of eligibility for home loan benefits. The information is used to determine the applicant's basic eligibility for the benefit.

An agency may not conduct or sponsor, and a person is not required to respond to a collection of information unless it displays a currently valid OMB control number. The Federal Register Notice with a 60-day comment period soliciting comments on this collection of information was published on March 6, 2002, at page 10257.

Affected Public: Individuals or households.

Estimated Annual Burden: 250 hours.

Estimated Average Burden Per Respondent: 15 minutes

Frequency of Response: On occasion.

Estimated Number of Total Respondents: 1,000.

Dated: May 3, 2002.
By direction of the Secretary:
Genie McCully,
Acting Director, Information Management Service.

[FR Doc. 02-12174 Filed 5-15-02; 8:45 am]

BILLING CODE 8320-01-P